OFFICE OF PERSONNEL MANAGEMENT

Submission for OMB Review: Comment Request for Reclearance of Previously Approved Collections: Standard Forms 85, 85P, 85P-S, 86, and 86A

AGENCY: U.S. Office of Personnel Management.

ACTION: Notice.

SUMMARY: In accordance with the Paperwork Reduction Act of 1995 (Public Law 104-13, May 22, 1995), this notice announces that the Office of Personnel Management (OPM) has submitted to the Office of Management and Budget (OMB) a request for reclearance of five (5) information collections.

Executive Orders 10450 and 12968 require that investigations be conducted on all persons entering Federal service, or assigned to Federal positions affecting the public trust or requiring a security clearance. The Standard Form 85, Questionnaire for Non-Sensitive Positions, is completed by appointees to non-sensitive positions in the Federal government, and is used by OPM to conduct National Agency Checks and Inquiries investigations. The Standard Form 85P, Questionnaire for Public Trust Positions, is completed by persons seeking placement in positions designated as low, moderate or high risk to the public trust because of their sensitive duties. This information collection also includes the Standard Form 85P-S, Supplemental Questionnaire for Selected Positions, which is requested for selected positions at the high risk level. Information collected on the SF 85P and SF 85P-S is used by OPM and other Federal agencies to initiate background investigations required to determine suitability for placement in public trust or other sensitive, non-access positions. The Standard Form 86, Questionnaire for National Security Positions, is completed by persons performing or seeking to perform national security duties for the Federal government, and is used by OPM and other Federal agencies to initiate national security investigations. These information collections include Standard Form 86A, Continuation Sheet for Questionnaires SF 86, SF 85P and SF 85, which provides formatted space to continue answers to questions on the other forms.

We estimate 10 respondents who are not Federal employees will complete the SF 85 annually, that the burden for each response is 30 minutes, and that the total annual burden is five hours. The number of non-Federal employees expected to complete the SF 85P is 2,000, each form requires approximately 60 minutes to complete, and the annual burden is estimated at 2,000 hours. The number of non-Federal employees expected to complete the SF 85P-S is 300, each form requires approximately 10 minutes to complete, and the annual burden is estimated at 50 hours. The number of non-Federal employees expected to complete the SF 86 and SF 86A is 200,000, the form requires an average of 90 minutes to complete, and the annual burden is estimated at 300,000 hours.

For copies of this request, please contact Mary Beth Smith-Toomey, by phone at: (202) 606-8358, by FAX at: (202) 418-3251, or by e-mail at: mbtoomey@opm.gov. Please include a mailing address with your request.

DATES: Comments on this proposal should be received on or before November 1, 2001.

ADDRESSES: Send or deliver written comments to:

Richard A. Ferris, Associate Director, Investigations Service, U.S. Office of Personnel Management, 1900 E Street, NW., room 5416, Washington, DC 20415-4000

and

Joseph Lackey, OPM Desk Officer, Office of Information and Regulatory Affairs, Office of Management and Budget, New Executive Office Building, NW., room 10235, Washington, DC 20503

FOR FURTHER INFORMATION CONTACT: Rasheedah I. Ahmad, Program Analyst, Investigations Service, OPM, (202) 606-7983.

Office of Personnel Management.
Kay Coles James,
Director.

[FR Doc. 01-24565 Filed 10-1-01; 8:45 am]

BILLING CODE 6325-38-P